DEPARTMENT OF THE INTERIOR

Bureau of Land Management

[WYW 163447]

Notice of Proposed Withdrawal and Opportunity for Public Meeting; Wyoming; Correction

AGENCY: Bureau of Land Management, Interior.

ACTION: Correction.

SUMMARY: This action corrects the acreage referenced in the SUMMARY and SUPPLEMENTARY INFORMATION sections of a notice published in the Federal Register on Friday, September 1, 2006 (71 FR 52144).

On page 52144, column 1, line 24 of the notice, which reads “approximately 427 acres of public land,” is hereby corrected to read, “approximately 504 acres of public land.”

On page 52144, column 2, line 20 of the notice, which reads “The area described contains 427 acres,” is hereby corrected to read, “The area described contains 504 acres.”

Donald A. Simpson,
State Director, Wyoming.

[FR Doc. 2012-21273 Filed 8-28-12; 8:45 am]

BILLING CODE 4310-55-P